DEPARTMENT OF HEALTH AND HUMAN SERVICES

Centers for Medicare & Medicaid Services

Notice of Hearing: Reconsideration of Disapproval of Colorado State Plan Amendment 05-006

AGENCY: Centers for Medicare & Medicaid Services (CMS), HHS.

ACTION: Notice of hearing.

SUMMARY: This notice announces an administrative hearing to be held on December 29, 2006, at the Colorado State Bank Building, 1600 Broadway, Suite 700, Keystone Conference Room, Denver, CO 80202-4967, to reconsider CMS' decision to disapprove Colorado State plan amendment 05-006.

Closing Date: Requests to participate in the hearing as a party must be received by the presiding officer by November 28, 2006.

FOR FURTHER INFORMATION CONTACT: Kathleen Scully-Hayes, Presiding Officer, CMS, Lord Baltimore Drive, Mail Stop LB-23-20, Baltimore, Maryland 21244, Telephone: (410) 786-2055.

SUPPLEMENTARY INFORMATION: This notice announces an administrative hearing to reconsider CMS' decision to disapprove Colorado State plan amendment (SPA) 05-006 which was submitted on July 26, 2005. This SPA was disapproved on July 13, 2006.

In SPA 05-006, Colorado proposed to modify the reimbursement methodology in the State plan for covered Medicaid Early and Periodic Screening, Diagnostic and Treatment (EPSDT) services provided in schools. Specifically, this amendment specified cost elements used to determine reimbursement rates for school-based services and targeted case management.

The amendment was disapproved because it did not comport with the requirements of sections 1902(a)(2), 1902(a)(4), 1902(a)(23), 1902(a)(30)(A), 1902(a)(10)(B), and 1903(a)(1) of the Social Security Act (the Act).

The issues to be decided in the hearing are:

• Whether Colorado has established that the indirect cost elements specified in Colorado SPA 05-006 would not duplicate direct cost elements also specified, to ensure that the payment rate is consistent with efficiency and economy as required by section 1902(a)(30)(A) of the Act.

• Whether Colorado has shown that certified public expenditures that will be used as the basis for claims under SPA 05-006 will be documented through auditable methods for determining or documenting actual and non-duplicative Medicaid expenditures incurred for school-based health services by a governmental entity, so that the claims will be consistent with sections 1902(a)(2), 1902(a)(4) and 1903(a)(1) of the Act.

• Whether the State has assured that the payment methodology specified under SPA 05-006, when read together with the State plan provisions authorizing the covered services that are the subject of SPA 05-006, would allow beneficiaries the ability to receive services from any willing and qualified provider within the State, consistent with the requirements of section 1902(a)(23) of the Act.

• Whether the State has established that the covered EPSDT services that are the subject of SPA 05-006 would be available in comparable amount, duration, and scope to the EPSDT services available to all eligible Medicaid beneficiaries, including those who do not attend schools paid under SPA 05-006, consistent with the requirements of section 1902(a)(10)(B) of the Act.

Section 1116 of the Act and Federal regulations at 42 CFR part 430, establish Department procedures that provide an administrative hearing for reconsideration of a disapproval of a State plan or plan amendment. CMS is required to publish a copy of the notice to a State Medicaid agency that informs the agency of the time and place of the hearing, and the issues to be considered. If we subsequently notify the agency of additional issues that will be considered at the hearing, we will also publish that notice.

Any individual or group that wants to participate in the hearing as a party must petition the presiding officer within 15 days after publication of this notice, in accordance with the requirements contained in Federal regulations at 42 CFR 430.76(b)(2). Any interested person or organization that wants to participate as amicus curiae must petition the presiding officer before the hearing begins in accordance with the requirements contained in Federal regulations at 42 CFR 430.76(c). If the hearing is later rescheduled, the presiding officer will notify all participants.

The notice to Colorado announcing an administrative hearing to reconsider the disapproval of its SPA reads as follows:

Ms. Lisa M. Esgar, Senior Director,

Operations and Finance Office,

Department of Health Care Policy and Financing,

1570 Grant Street,

Denver, CO 80203-1818.

Dear Ms. Esgar: I am responding to your request for reconsideration of the decision to disapprove the Colorado State plan amendment (SPA) 05-006, which was submitted on July 26, 2005, and disapproved on July 13, 2006.

In SPA 05-006, Colorado was proposed to modify the reimbursement methodology in the State plan for covered Medicaid Early and Periodic Screening, Diagnostic and Treatment (EPSDT) services provided in schools. Specifically, this amendment specified cost elements used to determine reimbursement rates for school-based services and targeted case management.

The amendment was disapproved because it did not comport with the requirements of sections 1902(a)(2), 1902(a)(4), 1902(a)(23), 1902(a)(30)(A), 1902(a)(10)(B), and 1903(a)(1) of the Social Security Act (the Act).

The issues to be decided in the hearing are:

• Whether Colorado has established that the indirect cost elements specified in Colorado SPA 05-006 would not duplicate direct cost elements also specified, to ensure that the payment rate is consistent with efficiency and economy as required by section 1902(a)(30)(A) of the Act.

• Whether Colorado has shown that certified public expenditures that will be used as the basis for claims under SPA 05-006 will be documented through auditable methods for determining or documenting actual and non-duplicative Medicaid expenditures incurred for school-based health services by a governmental entity, so that the claims will be consistent with section 1902(a)(2), 1902(a)(4) and 1903(a)(1) of the Act.

• Whether the State has assured that the payment methodology specified under SPA 05-006, when read together with the State plan provisions authorizing the covered services that are the subject of SPA 05-006, would allow beneficiaries the ability to receive services from any willing and qualified provider within the State, consistent with the requirements of section 1902(a)(23) of the Act.

• Whether the State has established that the covered EPSDT services that are the subject of SPA 05-006 would be available in a comparable amount, duration and scope to the EPSDT services available to all eligible Medicaid beneficiaries, including those who do not attend schools paid under SPA 05-006, consistent with the requirements of section 1902(a)(10)(B) of the Act.

I am scheduling a hearing on your request for reconsideration to be held on December 29, 2006, at the Colorado State Bank Building, 1600 Broadway, Suite 700, Keystone Conference Room, Denver, CO, 80202-4967, to reconsider the decision to disapprove SPA 05-006. If this date is not acceptable, we would be glad to set another date that is mutually agreeable to the parties. The hearing will be governed by the procedures prescribed by Federal regulations at 42 CFR part 430.

I am designating Ms. Kathleen Scully-Hayes as the presiding officer. If these arrangements present any problems, please contact the presiding officer at (410) 786-2055. In order to facilitate any communication which may be necessary between the parties to the hearing, please notify the presiding officer to indicate acceptability of the hearing date that has been scheduled and provide names of the individuals who will represent the State at the hearing.

Sincerely, Leslie V. Norwalk, Esq.,

Acting Administrator.

Section 1116 of the Social Security Act (42 U.S.C. 1316); 42 CFR 430.18)

(Catalog of Federal Domestic Assistance program No. 13.714, Medicaid Assistance Program)

Dated: November 6, 2006.
Leslie V. Norwalk,
Acting Administrator, Centers for Medicare & Medicaid Services.

[FR Doc. E6-19069 Filed 11-9-06; 8:45 am]

BILLING CODE 4120-01-P